DEPARTMENT OF TRANSPORTATION

Federal Aviation Administration

14 CFR Part 39

[Docket No. FAA-2016-0451; Directorate Identifier 2013-NM-253-AD]

RIN 2120-AA64

Airworthiness Directives; Airbus Airplanes

AGENCY: Federal Aviation Administration (FAA), DOT.

ACTION: Notice of proposed rulemaking (NPRM).

SUMMARY: We propose to supersede Airworthiness Directive (AD) 2004-23-20 for certain Airbus Model A300 series airplanes and Model A300 B4-601, A300 B4-603, A300 B4-620, A300 B4-622, A300 B4-605R, A300 B4-622R, A300 F4-605R, and C4-605R Variant F airplanes. AD 2004-23-20 currently requires, for certain airplanes, repetitive inspections for cracking around certain attachment holes, installation of new fasteners for certain airplanes, and follow-on corrective actions if necessary. AD 2004-23-20 also requires modifying certain fuselage frames, which terminates certain repetitive inspections. Since we issued AD 2004-23-20, we received a report indicating that the material used to manufacture the upper frame feet was changed and negatively affected the fatigue life of the frame feet. This proposed AD would reduce the compliance times for the initial inspection and the inspection intervals. This proposed AD would also expand the applicability and require an additional repair on certain airplanes that have been modified. We are proposing this AD to prevent cracking of the center section of the fuselage, which could result in a ruptured frame foot and reduced structural integrity of the airplane.

DATES: We must receive comments on this proposed AD by March 17, 2016.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this NPRM, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2016-0451; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Dan Rodina, Aerospace Engineer, International Branch, ANM 116, Transport Airplane Directorate, 1601 Lind Avenue SW., Renton, WA 98057-3356; telephone 425-227-2125; fax 425-227-1149.

SUPPLEMENTARY INFORMATION:

Comments Invited

We invite you to send any written relevant data, views, or arguments about this proposed AD. Send your comments to an address listed under the ADDRESSES section. Include “Docket No. FAA-2016-0451; Directorate Identifier 2013-NM-253-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On November 10, 2004, we issued AD 2004-23-20, Amendment 39-13875 (69 FR 68779, November 26, 2004) for all Airbus Model A300 series airplanes and Model A300 B4-601, A300 B4-603, A300 B4-620, A300 B4-622, A300 B4-605R, A300 B4-622R, A300 F4-605R and A300 C4-605R Variant F airplanes. (That AD superseded AD 2001-06-10, Amendment 39-12157 (66 FR 17490, April 2, 2001)). AD 2004-23-20 requires actions intended to address an unsafe condition on the products listed above.

Since we issued AD 2004-23-20, Amendment 39-13875 (69 FR 68779, November 26, 2004) we received a report indicating that a change in material for manufacturing the frame feet for certain airplanes negatively impacted the fatigue life of the frame feet.

The European Aviation Safety Agency (EASA), which is the Technical Agent for the Member States of the European Union, has issued EASA Airworthiness Directive 2013-0295, dated December 11, 2013 (referred to after this as the Mandatory Continuing Airworthiness Information, or “the MCAI”), to correct an unsafe condition for Airbus Model A300 B4-601, A300 B4-603, A300 B4-620, A300 B4-622, A300 B4-605R, A300 B4-622R, A300 F4-605R, and A300 C4-605R Variant F airplanes. The MCAI states:

During a scheduled inspection of the fuselage frame feet of an in-service A300-600 aeroplane, cracks were observed in Frame (FR) 43, FR 44, FR 45 and FR 46 between stringer (STGR) 24 and STGR 30.

This condition, if not detected and corrected, could affect the structural integrity of the aeroplane.

To address this unsafe condition, [Direction Generale de l'Aviation Civile] DGAC France issued [an] AD * * * to require repetitive inspections of the affected frames and stringers on both sides of the fuselage and, depending on findings, repairs, as specified in Airbus Service Bulletin (SB) A300-53-6122.

Subsequently, DGAC France issued AD F-2004-002 [http://ad.easa.europa.eu/ad/F-2004-002] (EASA approval 2003-2108) [which corresponds to FAA AD 2004-23-20, Amendment 39-13875 (69 FR 68779, November 26, 2004)], retaining the requirements of [an] AD * * * and required the embodiment of Airbus SB A300-53-6125 (Airbus modification 12168) in order to improve the life of the frame foot attachment.

Since DGAC France AD F-2004-002 was issued, a fleet survey and updated Fatigue and Damage Tolerance analyses were performed in order to substantiate the second A300-600 Extended Service Goal (ESG2) exercise.

It was highlighted that the frame feet material change from 2024T3511 (A300B4) to 7175T7351 (A300-600) had an impact on the frame feet fatigue life duration. Airbus SB A300-53-6122 was revised accordingly to decrease the inspection thresholds and intervals. Subsequent SB revision introduced a second structural modification point (SMP2) for aeroplanes that embody Airbus SB A300-53-6125 (modification 12168).

For the reasons described above, this new [EASA] AD retains the requirements of DGAC France AD F-2004-002, which is superseded, but requires those actions within the new thresholds and intervals as specified in Revision 04 of Airbus SB A300-53-6122.

The retained requirements include rototest inspections for cracking in the area surrounding the frame feet attachment holes between fuselage FR 41 and FR 46 from stringers 24 to 28 on the left and right sides, and related investigative and corrective action if necessary. The related investigative actions include additional rotating probe inspections of the adjacent holes. The corrective actions include reaming out cracks, cold working fastener holes, and installing oversized fasteners, or repair. This proposed AD also expands the applicability to include airplanes on which Airbus Modification 12168 was done. You may examine the MCAI in the AD docket on the Internet at http://www.regulations.gov by searching for and locating Docket No. FAA-2016-0451.

Related Service Information Under 1 CFR Part 51

Airbus has issued Service Bulletin A300-53-6122, Revision 04, dated February 27, 2012. The service information describes procedures for the repetitive inspections of certain frame feet attachment holes for cracks, installation of new fasteners, and repair of cracked areas.

In addition, Airbus has issued Service Bulletin A300-53-6125, Revision 01, dated June 13, 2003. The service information provides compliance times for certain airplanes to do the proposed modification.

Airbus has also issued Service Bulletin A300-53-6125, Revision 04, dated March 17, 2015. The service information describes procedures for the modification of certain upper frame feet fittings.

This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Changes to AD 2004-23-20, Amendment 39-13875 (69 FR 68779, November 26, 2004)

This proposed AD would retain all requirements of AD 2004-23-20, Amendment 39-13875 (69 FR 68779, November 26, 2004). Since AD 2004-23-20 was issued the AD format has been revised, and certain paragraphs have been rearranged. As a result, the corresponding paragraph designators have changed in this proposed AD, as listed in the following table:

Revised Paragraph Designators
Requirement in AD 2004-23-20, Amendment 39-13875 (69 FR 68779, November 26, 2004) | Corresponding requirement in this proposed AD
paragraph (f) | paragraph (g).
paragraph (g) | paragraph (h).
paragraph (h) | paragraph (i).
paragraph (i) | paragraph (j).
paragraph (j) | paragraph (k).

We have converted “TABLE 1.—SERVICE INFORMATION” in AD 2004-23-20, Amendment 39-13875 (69 FR 68779, November 26, 2004) to text in paragraphs (j)(3)(i) and (j)(3)(ii) of this proposed AD for formatting purposes only.

We have also moved the service information acceptable for compliance if previously done from “TABLE 1.—SERVICE INFORMATION” in AD 2004-23-20, Amendment 39-13875 (69 FR 68779, November 26, 2004) to paragraph (r)(2) of this proposed AD.

Costs of Compliance

We estimate that this proposed AD affects 65 airplanes of U.S. registry.

The actions that are required by AD 2004-23-20, Amendment 39-13875 (69 FR 68779, November 26, 2004), and retained in this proposed AD take about 90 work-hours per product, at an average labor rate of $85 per work-hour. Required parts cost about $4,000 per product. Based on these figures, the estimated cost of the actions that were required by AD 2004-23-20 is $11,650 per product.

We also estimate that it would take up to 109 work-hours per product to comply with the basic requirements of this proposed AD. The average labor rate is $85 per work-hour. Required parts would cost up to $6,070 per product. Based on these figures, we estimate the cost of this proposed AD on U.S. operators to be $996,775, or $15,335 per product.

We have received no definitive data that would enable us to provide cost estimates for the on-condition actions specified in this proposed AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2004-23-20, Amendment 39-13875 (69 FR 68779, November 26, 2004), and adding the following new AD:

Airbus: Docket No. FAA-2016-0451; Directorate Identifier 2013-NM-253-AD.

(a) Comments Due Date

We must receive comments by March 17, 2016.

(b) Affected ADs

This AD replaces AD 2004-23-20, Amendment 39-13875 (69 FR 68779, November 26, 2004).

(c) Applicability

This AD applies to Airbus Model A300 B2-1A, B2-1C, B2K-3C, B2-203, B4-2C, B4-103, and B4-203 airplanes; and Model A300 B4-601, A300 B4-603, A300 B4-620, A300 B4-622, A300 B4-605R, A300 B4-622R, A300 F4-605R and A300 C4-605R Variant F airplanes; certificated in any category, all manufacturer serial numbers.

(d) Subject

Air Transport Association (ATA) of America Code 53, Fuselage.

(e) Reason

This AD was prompted by a report indicating that the material used to manufacture the upper frame feet was changed and negatively affected the fatigue life of the frame feet. We are issuing this AD to prevent cracking of the center section of the fuselage, which could result in a ruptured frame foot and reduced structural integrity of the airplane.

(f) Compliance

Comply with this AD within the compliance times specified, unless already done.

(g) Retained Inspections

This paragraph restates the requirements of paragraph (f) of AD 2004-23-20, Amendment 39-13875 (69 FR 68779, November 26, 2004), with revised service information. For Model A300 B4-600 and A300 B4-600R series airplanes, and Model A300 C4-605R Variant F and A300 F4-605R airplanes, except those airplanes modified by Airbus Modification 12168: Perform a high-frequency eddy-current or rototest inspection to detect cracking in the area surrounding the frame feet attachment holes between fuselage frames (FR) 41 and FR 46 from stringers 24 to 28, left-and right-hand sides, in accordance with Airbus Service Bulletin A300-53-6122, dated February 9, 2000; or the Accomplishment Instructions of Airbus Service Bulletin A300-53-6122, Revision 04, dated February 27, 2012; at the applicable time specified in paragraph (g)(1) or (g)(2) of this AD. Accomplishing an inspection required by paragraph (m) of this AD terminates the inspections required by this paragraph.

(1) For airplanes on which Task 53-15-54 in Maintenance Review Board Document (MRBD), Revision 3, dated April 1998, has not been accomplished as of May 7, 2001 (the effective date of AD 2001-06-10, Amendment 39-12157 (66 FR 17490, April 2, 2001)): Perform the inspection at the later of the times specified in paragraphs (g)(1)(i) and (g)(1)(ii) of this AD.

(i) Prior to the accumulation of the total flight-cycle or flight-hour threshold, whichever occurs first, specified in paragraph 1.E. (“Compliance”) of Airbus Service Bulletin A300-53-6122, dated February 9, 2000; or

(ii) Within the applicable grace period specified in paragraph 1.E. (“Compliance”) of Airbus Service Bulletin A300-53-6122, dated February 9, 2000.

(2) For airplanes on which Task 53-15-54 in the MRBD, Revision 3, dated April 1998, has been accomplished as of May 7, 2001 (the effective date of AD 2001-06-10, Amendment 39-12157 (66 FR 17490, April 2, 2001)): Perform the next repetitive inspection at the later of the times specified in paragraphs (g)(2)(i) and (g)(2)(ii) of this AD.

(i) Within the flight-cycle or flight-hour interval, whichever occurs first, specified in paragraph 1.E. (“Compliance”) of Airbus Service Bulletin A300-53-6122, dated February 9, 2000, following the latest inspection accomplished as specified in MRBD, Revision 3, dated April 1998; or

(ii) Within the grace period specified in paragraph 1.E. (“Compliance”) of Airbus Service Bulletin A300-53-6122, dated February 9, 2000.

(h) Retained Installation of Fasteners and Repetitive Inspections

This paragraph restates the requirements of paragraph (g) of AD 2004-23-20, Amendment 39-13875 (69 FR 68779, November 26, 2004), with revised service information. For airplanes on which no cracking is detected during the inspection required by paragraph (g) of this AD, prior to further flight, install new fasteners as applicable, in accordance with Airbus Service Bulletin A300-53-6122, dated February 9, 2000; or the Accomplishment Instructions of Airbus Service Bulletin A300-53-6122, Revision 04, dated February 27, 2012; and repeat the inspection required by paragraph (g) of this AD thereafter at intervals not to exceed the applicable intervals specified in paragraph 1.E. (“Compliance”) of Airbus Service Bulletin A300-53-6122, dated February 9, 2000; until the actions required by paragraph (j) or (o) of this AD have been done or the initial inspection required by paragraph (m) of this AD is done.

(i) Retained Corrective Actions

This paragraph restates the requirements of paragraph (h) of AD 2004-23-20, Amendment 39-13875 (69 FR 68779, November 26, 2004), with revised service information. For airplanes on which cracking is detected during any inspection required by paragraph (g) of this AD: Prior to further flight, except as required by paragraph (k) of this AD, accomplish corrective actions (e.g., performing rotating probe inspections, reaming out cracks, cold working fastener holes, and installing oversized fasteners) in accordance with Airbus Service Bulletin A300-53-6122, dated February 9, 2000; or the Accomplishment Instructions of Airbus Service Bulletin A300-53-6122, Revision 04, dated February 27, 2012. Repeat the inspection required by paragraph (g) of this AD thereafter at intervals not to exceed the applicable intervals specified in paragraph 1.E. (“Compliance”) of Airbus Service Bulletin A300-53-6122, dated February 9, 2000; until the actions required by paragraph (j) or (o) of this AD have been done, or the initial inspection required by paragraph (m) of this AD is done.

(j) Retained Modification: Model A300 Series Airplanes

This paragraph restates the requirements of paragraph (i) of AD 2004-23-20, Amendment 39-13875 (69 FR 68779, November 26, 2004), for certain airplanes, with no changes. For Model A300 series airplanes: Within the compliance times specified in paragraph 1.E. (“Compliance”) of Airbus Service Bulletin A300-53-0271, Revision 03, dated June 13, 2003, modify the fuselage frames, in accordance with the Accomplishment Instructions of Airbus Service Bulletin A300-53-0271, Revision 03, dated June 13, 2003. For airplanes that have exceeded their design service goal, as specified in NOTE (01) of paragraph 1.E. (“Compliance”) of Airbus Service Bulletin A300-53-0271, Revision 03, dated June 13, 2003; this AD requires compliance within the earlier of the flight-cycle and flight-hour grace periods specified in Airbus Service Bulletin A300-53-0271, Revision 03, dated June 13, 2003.

(k) Retained Exceptions to Service Bulletin Procedures

This paragraph restates the requirements of paragraph (j) of AD 2004-23-20, Amendment 39-13875 (69 FR 68779, November 26, 2004), with specific delegation approval language. During any inspection required by paragraphs (g), (h), (i), or (j) of this AD, if the applicable service information specified in paragraphs (g), (h), (i), and (j) of this AD specifies to contact the manufacturer for appropriate instructions: Before further flight, perform all applicable corrective actions in accordance with a method approved by the Manager, International Branch, ANM-116, Transport Airplane Directorate, FAA; or the Direction Generale de l'Aviation Civile (DGAC) (or its delegated agent); or the European Aviation Safety Agency (EASA); or Airbus's EASA Design Organization Approval (DOA).

(l) New Definition for This AD: Average Flight Time (AFT)

For the purpose of this AD, use the parameters specified in paragraphs (l)(1), (l)(2), and (l)(3) of this AD to determine the applicable AFT for the actions required by paragraph (m) and compliance times required by paragraph (n) of this AD.

(1) The initial inspection compliance time, as the total accumulated flight hours counted from take-off to touch-down, divided by the total accumulated flight cycles as of the effective date of this AD.

(2) The first repetitive inspection interval, as the total accumulated flight hours divided by the total accumulated flight cycles at the time of the inspection.

(3) The second inspection interval and subsequent, as the flight hours divided by the flight cycles between the last two inspections.

(m) New Requirements of This AD: Inspections and Corrective Actions

(1) At the applicable time specified in paragraph (n)(1) of this AD, do a rotating probe inspection for discrepancies of the frame feet attachment holes from FR 41 through FR 46, in accordance with the Accomplishment Instructions of Airbus Service Bulletin A300-53-6122, Revision 04, dated February 27, 2012. Repeat the inspections thereafter at intervals not to exceed those specified in paragraph (n)(2) of this AD. Accomplishment of this inspection terminates the inspections required by paragraph (g)(2) of this AD.

(2) If any discrepancy (e.g., cracking or damage) is found during any inspection required by paragraph (m)(1) of this AD, before further flight, do all applicable related investigative and corrective actions, in accordance with the Accomplishment Instructions of Airbus Service Bulletin A300-53-6122, Revision 04, dated February 27, 2012; except where Airbus Service Bulletin A300-53-6122, Revision 04, dated February 27, 2012, specifies to contact Airbus, before further flight, repair using a method approved by the Manager, International Branch, ANM-116, Transport Airplane Directorate, FAA; or EASA; or Airbus's EASA DOA.

(3) Corrective actions, as required by paragraph (m)(2) of this AD, do not constitute terminating action for the repetitive inspections required by paragraph (m)(1) of this AD.

(n) Compliance Times for Initial and Repetitive Inspections

(1) Do the initial rotating probe inspection required by paragraph (m)(1) of this AD at the applicable times specified in paragraphs (n)(1)(i), (n)(1)(ii), and (n)(1)(iii) of this AD; or within 1,000 flight cycles after the effective date of this AD; whichever occurs later.

(i) For airplanes on which the modification specified in Airbus Service Bulletin A300-53-6125 has not been done as of the effective date of this AD: At the applicable times specified in paragraph (n)(1)(i)(A) or (n)(1)(i)(B) of this AD.

(A) If the AFT is greater than 1.5 flight hours/flight cycles: Within 14,800 flight hours or 6,800 flight cycles, whichever occurs first, since the airplane's first flight.

(B) If the AFT is less than or equal to 1.5 flight hours/flight cycles: Within 11,100 flight hours or 7,400 flight cycles, whichever occurs first, since the airplane's first flight.

(ii) For airplanes on which the modification specified in Airbus Service Bulletin A300-53-6125 has been done as of the effective date of this AD, except as provided by paragraph (n)(1)(iii) of this AD: At the applicable times specified in paragraph (n)(1)(ii)(A) or (n)(1)(ii)(B) of this AD.

(A) If the AFT is greater than 1.5 flight hours/flight cycles: Within 56,400 flight hours or 26,100 flight cycles, whichever occurs first, after doing the modification specified in Airbus Service Bulletin A300-53-6125.

(B) If the AFT is less than or equal to 1.5 flight hours/flight cycles: Within 42,300 flight hours or 28,200 flight cycles, whichever occurs first, after doing the modification specified in Airbus Service Bulletin A300-53-6125.

(iii) For airplanes on which the additional modification required by paragraph (p) of this AD has been done: At the applicable times in paragraph (n)(1)(iii)(A) or (n)(1)(iii)(B) of this AD.

(A) If the AFT is greater than 1.5 flight hours/flight cycles: Within 69,400 flight hours or 32,100 flight cycles, whichever occurs first, after doing the modification specified in Airbus Service Bulletin A300-53-6125.

(B) If the AFT is less than or equal to 1.5 flight hours/flight cycles: Within 52,000 flight hours or 34,700 flight cycles, whichever occurs first, after doing the modification specified in Airbus Service Bulletin A300-53-6125.

(2) Do the repetitive rotating probe inspections required by paragraph (m)(1) of this AD at intervals not to exceed those specified in paragraph (n)(2)(i) or (n)(2)(ii) of this AD, as applicable.

(i) If the AFT is greater than 1.5 flight hours/flight cycles: 7,800 flight hours or 3,600 flight cycles, whichever occurs first.

(ii) If the AFT is less than or equal to 1.5 flight hours/flight cycles: 5,800 flight hours or 3,900 flight cycles, whichever occurs first.

(o) New Requirement of This AD: Modification for Model A300 B4-601, A300 B4-603, A300 B4-620, A300 B4-622, A300 B4-605R, A300 B4-622R, A300 F4-605R and A300 C4-605R Variant F Airplanes

(1) For Model A300 B4-601, A300 B4-603, A300 B4-620, A300 B4-622, A300 B4-605R, A300 B4-622R, A300 F4-605R and A300 C4-605R Variant F airplanes, except those modified in production before the effective date of this AD by Airbus Modification 12168 or those on which the modification (i.e., reinforcement of the upper frame feet fittings) specified in the service information identified in paragraph (p)(1)(i), (p)(1)(ii), or (p)(1)(iii) of this AD has been done before the effective date of this AD: At the applicable time specified in paragraph (o)(1)(i) or (o)(1)(ii) of this AD: Reinforce the upper frame feet fittings, including doing all applicable related investigative and corrective actions, in accordance with the Accomplishment Instructions of Airbus Service Bulletin A300-53-6125, Revision 04, dated March 17, 2015, except where Airbus Service Bulletin A300-53-6125, Revision 04, dated March 17, 2015, specifies to contact Airbus, before further flight, repair using a method approved by the Manager, International Branch, ANM-116, Transport Airplane Directorate, FAA; or EASA; or Airbus's EASA DOA. Do all applicable related investigative and corrective actions before further flight.

(i) For airplanes with an AFT greater than 1.5 flight hours/flight cycles as of the effective date of this AD: At the later of the times in paragraphs (o)(1)(i)(A) and (o)(1)(i)(B) of this AD:

(A) Within 18,200 flight hours or 8,400 flight cycles, whichever occurs first, since the airplane's first flight; or

(B) At the earlier of the times specified in paragraphs (o)(1)(i)(B)1 and (o)(1)(i)(B)2 of this AD.

1 Within 1,000 flight cycles after the effective date of this AD.

2 Within the compliance times specified in paragraph 1.E. (“Compliance”) of Airbus Service Bulletin A300-53-6125, Revision 01, dated June 13, 2003. For airplanes that have exceeded their design service goal, as specified in NOTE (01) of paragraph 1.E. (“Compliance”) of Airbus Service Bulletin A300-53-6125, Revision 01, dated June 13, 2003; within the earlier of the flight-cycle and flight-hour grace periods specified in Airbus Service Bulletin A300-53-6125, Revision 01, dated June 13, 2003.

(ii) For airplanes with an AFT less than or equal to 1.5 flight hours/flight cycles as of the effective date of this AD: At the later of the times in paragraphs (o)(1)(ii)(A) and (o)(1)(ii)(B) of this AD:

(A) Within 13,700 flight hours or 9,100 flight cycles, whichever occurs first, since the airplane's first flight; or

(B) At the earlier of the times specified in paragraphs (o)(1)(ii)(B)1 and (o)(1)(ii)(B)2 of this AD.

1 Within 1,000 flight cycles after the effective date of this AD

2 Within the compliance times specified in paragraph 1.E. (“Compliance”) of Airbus Service Bulletin A300-53-6125, Revision 01, dated June 13, 2003. For airplanes that have exceeded their design service goal, as specified in NOTE (01) of paragraph 1.E. (“Compliance”) of Airbus Service Bulletin A300-53-6125, Revision 01, dated June 13, 2003; within the earlier of the flight-cycle and flight-hour grace periods specified in Airbus Service Bulletin A300-53-6125, Revision 01, dated June 13, 2003.

(2) For the affected Model A300 B4-600 series airplanes: Accomplishment of the modification specified in Airbus Service Bulletin A300-53-6125 before the effective date of this AD terminates the requirements of paragraphs (g), (h), and (i) of this AD.

(3) For Model A300 B2 and A300 B4 series airplanes: Accomplishment of the modification specified in Airbus Service Bulletin A300-53-6125 terminates certain repetitive inspections required by AD 2007-04-11, Amendment 39-14943 (72 FR 8604, February 27, 2014), i.e., inspections of the frame feet holes for frames 41 to 46 (as specified in Airbus Service Bulletin A300-53-0345) and frames 48 to 54 (as specified in Airbus Service Bulletin A300-53-238). However, the repetitive inspections of the frame foot angle radius (as specified in Service Bulletin A300-53-238), which are required by AD 2007-04-11, must continue.

(p) New Requirement of This AD: Additional Modification for Certain Airplanes

(1) For Model A300 B4-601, A300 B4-603, A300 B4-620, A300 B4-622, A300 B4-605R, A300 B4-622R, A300 F4-605R and A300 C4-605R Variant F airplanes modified in production before the effective date of this AD by Airbus Modification 12168, or modified before the effective date of this AD by accomplishment of the reinforcement of the upper frame feet fittings specified in the service information identified in paragraph (p)(1)(i), (p)(1)(ii), or (p)(1)(iii) of this AD: Within 360 flight cycles prior to reaching the applicable compliance time specified in paragraph (p)(2)(i) or (p)(2)(ii) of this AD, contact the Manager, International Branch, ANM-116, Transport Airplane Directorate, FAA; or EASA; or Airbus's EASA DOA; for modification instructions and within the applicable compliance time specified in paragraph (p)(2) of this AD, do the modification using a method approved by the Manager, International Branch, ANM-116, Transport Airplane Directorate, FAA; or EASA; or Airbus's EASA DOA.

(i) Airbus Service Bulletin A300-53-6125, dated November 8, 2000.

(ii) Airbus Service Bulletin A300-53-6125, Revision 01, dated June 13, 2003,

(iii) Airbus Service Bulletin A300-53-6125, Revision 02, dated February 25, 2005.

(2) Do the modification required by paragraph (p)(1) of this AD at the applicable time specified below.

(i) For airplanes with an AFT greater than 1.5 flight hours/flight cycles as of the effective date of this AD: Within 32,100 flight cycles after the modification was completed.

(ii) For airplanes with an AFT less than or equal to 1.5 flight hours/flight cycles as of the effective date of this AD: Within 34,700 flight cycles after the modification was completed.

(q) Modification Is Not Terminating Action

Accomplishment of the modification specified in paragraph (o) or (p) of this AD does not constitute terminating action for the repetitive inspections required by paragraph (m)(1) of this AD.

(r) Credit for Previous Actions

(1) For Model A300 B4-600 and B4-600R series airplanes, and Model A300 C4-605R Variant F and A300 F4-605R airplanes: This paragraph provides credit for inspections and corrective actions required by paragraphs (g), (h), and (i) of this AD, if those actions were performed before the effective date of this AD using the applicable service information specified in paragraphs (r)(1)(i), (r)(1)(ii), and (r)(1)(iii) of this AD.

(i) Airbus Service Bulletin A300-53-6122, Revision 01, dated September 5, 2001, which is not incorporated by reference in this AD.

(ii) Airbus Service Bulletin A300-53-6122, Revision 02, dated June 17, 2002, which is not incorporated by reference in this AD.

(iii) Airbus Service Bulletin A300-53-6122, Revision 03, dated August 25, 2011, which is not incorporated by reference in this AD.

(2) This paragraph restates the credit for Airbus Model A300 series airplanes for previous actions as provided by Table 1 of AD 2004-23-20, Amendment 39-13875 (69 FR 68779, November 26, 2004). For Airbus Model A300 series airplanes: This paragraph provides credit for actions required by paragraph (j) of this AD, if those actions were performed before January 3, 2005 (the effective date of AD 2004-23-20) using the service information specified in paragraph (r)(2)(i), (r)(2)(ii), or (r)(2)(iii) of this AD.

(i) Airbus Service Bulletin A300-53-0271, dated September 10, 1991, which is not incorporated by reference in this AD.

(ii) Airbus Service Bulletin A300-53-0271, Revision 01, dated February 16, 1993, which is not incorporated by reference in this AD.

(iii) Airbus Service Bulletin A300-53-0271, Revision 02, dated July 13, 2000, which is not incorporated by reference in this AD.

(s) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM 116, Transport Airplane Directorate, 1601 Lind Avenue SW., Renton, WA 98057-3356; telephone 425-227-2125; fax 425-227-1149. Information may be emailed to: 9-ANM-116-AMOC-REQUESTS@faa.gov.

(i) Before using any approved AMOC, notify your appropriate principal inspector, or lacking a principal inspector, the manager of the local flight standards district office/certificate holding district office. The AMOC approval letter must specifically reference this AD.

(ii) AMOCs approved previously for AD 96-13-11, Amendment 39-9679 (61 FR 35122, July 5, 1996), and AD 2001-06-10, Amendment 39-12157, April 2, 2001), are approved as AMOCs for the corresponding requirements of this AD.

(2) Contacting the Manufacturer: As of the effective date of this AD, for any requirement in this AD to obtain corrective actions from a manufacturer, the action must be accomplished using a method approved by the Manager, International Branch, ANM-116, Transport Airplane Directorate, FAA; or EASA; or Airbus' EASA DOA. If approved by the DOA, the approval must include the DOA-authorized signature.

(t) Related Information

(1) Refer to Mandatory Continuing Airworthiness Information (MCAI) EASA Airworthiness Directive 2013-0295, dated December 11, 2013, for related information. This MCAI may be found in the AD docket on the Internet at http://www.regulations.gov by searching for and locating Docket No. FAA-2016-0451.

(2) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Issued in Renton, Washington, on January 21, 2016.
Michael Kaszycki,
Acting Manager, Transport Airplane Directorate, Aircraft Certification Service.

[FR Doc. 2016-01736 Filed 1-29-16; 8:45 am]

BILLING CODE 4910-13-P